SECURITIES AND EXCHANGE COMMISSION

[OMB Control No. 3235-0382]

Proposed Collection; Comment Request; Extension: Schedule 14D-9F—Canadian Securities

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget (“OMB”) for extension and approval.

Schedule 14D-9F (17 CFR 240.14d-103) under the Securities Exchange Act of 1934 (15 U.S.C. 78 et seq.) is used by foreign private issuers incorporated or organized under the laws of Canada or any Canadian province or territory or by any director or officer of such issuer, where the issuer is the subject of a cash tender or exchange offer for a class of securities filed on Schedule 14D-1F (17 CFR 240.14d-102). Schedule 14D-9F provides investors in the securities of Canadian foreign private issuers with the filer's recommended response to a tender offer, informing the investment decisions of securityholders, while reducing expense and increasing efficiency in connection with tender offer filings with the Commission by providing that disclosure required under Canadian law is a key aspect of the information required on Schedule 14D-9F. We estimate that Schedule 14D-9F carries a collection of information burden of approximately two hours per response and is filed by approximately one respondent annually for a total annual reporting burden of two hours (2 hours per response × 1 response annually). There is no separate cost burden associated with this information collection.

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by September 8, 2025. There will be a second opportunity to comment on this Commission request following the Federal Register publishing a 30-Day Submission Notice.

Dated: July 2, 2025.
Sherry R. Haywood,
Assistant Secretary.

[FR Doc. 2025-12615 Filed 7-7-25; 8:45 am]

BILLING CODE 8011-01-P